DEPARTMENT OF HOMELAND SECURITY

Office of the Secretary

[Docket No. DHS-2011-0003]

Privacy Act of 1974; Department of Homeland Security Office of Operations Coordination and Planning—004 Publicly Available Social Media Monitoring and Situational Awareness Initiative System of Records

AGENCY: Privacy Office, DHS.

ACTION: Notice of Privacy Act system of records.

SUMMARY: In accordance with the Privacy Act of 1974, the Department of Homeland Security is giving notice that it proposes to establish a new Department of Homeland Security system of records titled, “Department of Homeland Security Office of Operations Coordination and Planning—004 Publicly Available Social Media Monitoring and Situational Awareness Initiative System of Records.” The Office of Operations Coordination and Planning (OPS) National Operations Center (NOC), has launched and leads the Publicly Available Social Media Monitoring and Situational Awareness (Initiative) to assist the Department of Homeland Security (DHS) and its components involved in fulfilling OPS statutory responsibility to provide situational awareness. The NOC and participating components may share this de-identified information with international partners and the private sector where necessary and appropriate for coordination. While this Initiative is not designed to actively collect Personally Identifiable Information (PII), OPS is publishing this System of Records Notice (SORN) because the Initiative may collect PII for certain narrowly tailored categories. For example, in the event of an in extremis situation involving potential life and death, OPS will share certain PII with the responding authority in order for them to take the necessary actions to save a life, such as name and location of a person calling for help buried under rubble, or hiding in a hotel room when the hotel is under attack by terrorists. In the event PII comes into the Department's possession under circumstances other than those itemized herein, the NOC will redact all PII prior to further dissemination of any collected information. This collection is currently covered under DHS/OPS-003 but in order to provide more transparency, DHS is issuing a specific SORN for this activity. This newly established system will be included in the Department of Homeland Security's inventory of record systems.

DATES: Submit comments on or before March 3, 2011. This new system will be effective March 3, 2011.

ADDRESSES: You may submit comments, identified by docket number DHS-2011-0003 by one of the following methods:

• Federal e-Rulemaking Portal: http://www.regulations.gov. Follow the instructions for submitting comments.

• Fax: 703-483-2999.

• Mail: Mary Ellen Callahan, Chief Privacy Officer, Privacy Office, Department of Homeland Security, Washington, DC 20528.

• Instructions: All submissions received must include the agency name and docket number for this rulemaking. All comments received will be posted without change to http://www.regulations.gov, including any personal information provided.

• Docket: For access to the docket to read background documents or comments received go to http://www.regulations.gov.

FOR FURTHER INFORMATION CONTACT: For general questions please contact: Michael Page (202-357-7626), Privacy Point of Contact, Office of Operations Coordination and Planning, Department of Homeland Security, Washington, DC 20528. For privacy issues please contact: Mary Ellen Callahan (703-235-0780), Chief Privacy Officer, Privacy Office, Department of Homeland Security, Washington, DC 20528.

SUPPLEMENTARY INFORMATION:

I. Background

In accordance with the Privacy Act of 1974, 5 U.S.C. 552a, the Department of Homeland Security (DHS) Office of Operations Coordination and Planning (OPS), including the National Operations Center (NOC), proposes to establish a new DHS system of records titled, “DHS/OPS—004 Publicly Available Social Media Monitoring and Situational Awareness Initiative System of Records.”

This system of records will allow DHS/OPS, including the NOC, to provide situational awareness and establish a common operating picture for the entire federal government, and for state, local, and tribal governments as appropriate, and to ensure that critical disaster-related information reaches government decision makers. See Section 515 of the Homeland Security Act (6 U.S.C. 321d(b)(1)). The law defines the term “situational awareness” as “information gathered from a variety of sources that, when communicated to emergency managers and decision makers, can form the basis for incident management decision-making.” OPS has launched and leads this Initiative to fulfill its legal mandate to provide situational awareness and establish a common operating picture. In doing so, OPS is working with select components within the Department to achieve this statutory mandate. This collection is currently covered under DHS/OPS-003 but in order to provide more transparency, DHS is issuing a specific SORN for this activity.

The NOC will use Internet-based platforms that provide a variety of ways to follow activity related to monitoring publicly available online forums, blogs, public websites, and message boards. Through the use of publicly available search engines and content aggregators the NOC will monitor activities on social media for information that the NOC can use to provide situational awareness and establish a common operating picture. The NOC will gather, store, analyze, and disseminate relevant and appropriate de-identified information to federal, state, local, and foreign governments, and private sector partners authorized to receive situational awareness and a common operating picture. Under this initiative, OPS generally will not: (1) Actively seek personally identifiable information (PII); (2) post any information; (3) actively seek to connect with other internal/external personal users; (4) accept other internal/external personal users' invitations to connect; or (5) interact on social media sites. However, OPS is permitted to establish user names and passwords to form profiles and follow relevant government, media, and subject matter experts on social media sites in order to use search tools under established criteria and search terms for monitoring that supports providing situational awareness and establishing a common operating picture. Furthermore, PII on the following categories of individuals may be collected when it lends credibility to the report or facilitates coordination with federal, state, local, tribal, territorial, foreign, or international government partners: (1) U.S. and foreign individuals in extremis situations involving potential life or death circumstances; (2) Senior U.S. and foreign government officials who make public statements or provide public updates; (3) U.S. and foreign government spokespersons who make public statements or provide public updates; (4) U.S. and foreign private sector officials and spokespersons who make public statements or provide public updates; (5) names of anchors, newscasters, or on-scene reporters who are known or identified as reporters in their post or article or who use traditional and/or social media in real time to keep their audience situationally aware and informed; (6) public officials, current and former, who are victims of a transportation accident or attack and; (7) known terrorists, drug cartel leaders or other persons known to have been involved in major crimes or terror of Homeland Security interest, (e.g., mass shooters such as those at Virginia Tech or Ft. Hood) who are killed or found dead.

The NOC will identify and monitor only information needed to provide situational awareness and establish a common operating picture. The NOC will use this information to fulfill the statutory mandate set forth above to include the sharing of information with foreign governments and the private sector as otherwise authorized by law.

DHS is authorized to implement this program primarily through 6 U.S.C. 121; 44 U.S.C. 3101; Executive Order (E.O.) 13388; OPS Delegation 0104; and Homeland Security Presidential Directive 5.

This system has an effect on individual privacy that is balanced by the need to collect, plan, coordinate, report, analyze, and fuse homeland security information coming into and going out of OPS, including the NOC. Routine uses contained in this notice include sharing with the Department of Justice (DOJ) for legal advice and representation; to a congressional office at the request of an individual; to the National Archives and Records Administration (NARA) for records management; to contractors in support of their contract assignment to DHS; to appropriate federal, state, tribal, local, international, foreign agency, or other appropriate entity including the privacy sector in their role aiding OPS in their mission; to agencies, organizations or individuals for the purpose of audit; to agencies, entities, or persons during a security or information compromise or breach; to an agency, organization, or individual when there could potentially be a risk of harm to an individual; and to the news media in the interest of the public. A review of this system is being conducted to determine if the system of records collects information under the Paperwork Reduction Act (PRA).

Consistent with DHS's information sharing mission, information contained in the DHS/OPS—004 Publicly Available Social Media Monitoring and Situational Awareness Initiative System of Records may be shared with other DHS components, as well as appropriate federal, state, local, tribal, territorial, foreign, or international government agencies. This sharing will take place only after DHS determines that the receiving component or agency has a verifiable need to know the information to carry out national security, law enforcement, immigration, intelligence, or other functions consistent with the routine uses set forth in this system of records notice.

This newly established system will be included in DHS's inventory of record systems.

II. Privacy Act

The Privacy Act embodies fair information principles in a statutory framework governing the means by which the United States Government collects, maintains, uses, and disseminates individuals' records. The Privacy Act applies to information that is maintained in a “system of records.” A “system of records” is a group of any records under the control of an agency for which information is retrieved by the name of an individual or by some identifying number, symbol, or other identifying particular assigned to the individual. In the Privacy Act, an individual is defined to encompass United States citizens and lawful permanent residents. As a matter of policy, DHS extends administrative Privacy Act protections to all individuals where systems of records maintain information on U.S. citizens, lawful permanent residents, and visitors. Individuals may request access to their own records that are maintained in a system of records in the possession or under the control of DHS by complying with DHS Privacy Act regulations, 6 CFR Part 5.

The Privacy Act requires each agency to publish in the Federal Register a description denoting the type and character of each system of records that the agency maintains, and the routine uses that are contained in each system in order to make agency recordkeeping practices transparent, to notify individuals regarding the uses to their records are put, and to assist individuals to more easily find such files within the agency. Below is the description of the DHS/OPS—004 Publicly Available Social Media Monitoring and Situational Awareness Initiative System of records. In accordance with 5 U.S.C. 552a(r), DHS has provided a report of this system of records to the Office of Management and Budget and to Congress.

SYSTEM OF RECORDS

DHS/OPS—004

SYSTEM NAME:

Publicly Available Social Media Monitoring and Situational Awareness Initiative System of Records.

SECURITY CLASSIFICATION:

Unclassified, For Official Use Only, Law Enforcement Sensitive, and Classified.

SYSTEM LOCATION:

Records are maintained at the Department of Homeland Security (DHS) Office of Operations Coordination and Planning (OPS) National Operations Center (NOC) Headquarters in Washington, DC and field locations.

CATEGORIES OF INDIVIDUALS COVERED BY THE SYSTEM:

Categories of individuals covered by the system may include:

• U.S. and foreign individuals in extremis situations involving potential life or death circumstances;

• Senior U.S. and foreign government officials who make public statements or provide public updates;

• U.S. and foreign government spokespersons who make public statements or provide public updates;

• U.S. and foreign private sector officials and spokespersons who make public statements or provide public updates;

• Names of anchors, newscasters, or on-scene reporters who are known or identified as reporters in their post or article or who use traditional and/or social media in real time to keep their audience situationally aware and informed;

• Current and former public officials who are victims of incidents or activities related to Homeland Security; and

• Known terrorists, drug cartel leaders or other persons known to have been involved in major crimes or terror of Homeland Security interest, (e.g., mass shooters such as those at Virginia Tech or Ft. Hood) who are killed or found dead.

CATEGORIES OF RECORDS IN THE SYSTEM:

Categories of records in the system may include:

• Full name;

• Affiliation;

• Position or title; and

• Publically available user ID.

AUTHORITY FOR MAINTENANCE OF THE SYSTEM:

6 U.S.C. 121; 44 U.S.C. 3101; Executive Order (E.O.) 13388; OPS Delegation 0104; and Homeland Security Presidential Directive 5.

PURPOSE(S):

The NOC will use this Initiative to fulfill its statutory responsibility to provide situational awareness and establish a common operating picture for the entire federal government, and for state, local, and tribal governments as appropriate, and to ensure that critical disaster-related information reaches government decisionmakers. Information may also be shared with private sector and international partners where necessary, appropriate, and authorized by law.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed outside DHS as a routine use pursuant to 5 U.S.C. 552a(b)(3) as follows:

A. To the Department of Justice (including United States Attorney Offices) or other federal agency conducting litigation or in proceedings before any court, adjudicative or administrative body, when it is necessary to the litigation and one of the following is a party to the litigation or has an interest in such litigation:

1. DHS or any component thereof;

2. any employee of DHS in his/her official capacity;

3. any employee of DHS in his/her individual capacity where DOJ or DHS has agreed to represent the employee; or

4. the United States or any agency thereof, is a party to the litigation or has an interest in such litigation, and DHS determines that the records are both relevant and necessary to the litigation and the use of such records is compatible with the purpose for which DHS collected the records.

B. To a congressional office from the record of an individual in response to an inquiry from that congressional office made at the request of the individual to whom the record pertains.

C. To the National Archives and Records Administration or other federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. DHS suspects or has confirmed that the security or confidentiality of information in the system of records has been compromised;

2. The Department has determined that as a result of the suspected or confirmed compromise there is a risk of harm to economic or property interests, identity theft or fraud, or harm to the security or integrity of this system or other systems or programs (whether maintained by DHS or another agency or entity) or harm to the individual that rely upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To appropriate federal, state, local, tribal, or foreign governmental agencies or multilateral governmental organizations for the purpose of protecting the vital interests of a data subject or other persons, including to assist such agencies or organizations in preventing exposure to or transmission of a communicable or quarantinable disease or to combat other significant public health threats; appropriate notice will be provided of any identified health threat or risk.

H. To the entire federal government, to state, local, and tribal governments, and to appropriate private sector individuals within the Critical Infrastructure Key Resources Community to provide situational awareness and establish a common operating picture and to ensure that critical disaster-related information reaches government decision makers when the personal identifiable information (PII) lends credibility to the report or facilitates coordination with interagency or international partners.

DISCLOSURE TO CONSUMER REPORTING AGENCIES:

None.

POLICIES AND PRACTICES FOR STORING, RETRIEVING, ACCESSING, RETAINING, AND DISPOSING OF RECORDS IN THE SYSTEM:

STORAGE:

Records in this system are stored electronically or on paper in secure facilities in a locked drawer behind a locked door. The records are stored on magnetic disc, tape, digital media, and CD-ROM.

RETRIEVABILITY:

Much of the data within this system does not pertain to an individual; rather, the information pertains to locations, geographic areas, facilities, and other things or objects not related to individuals. However, some personal information may be captured. Most information is stored as free text and any word, phrase, or number is searchable.

SAFEGUARDS:

Records in this system are safeguarded in accordance with applicable rules and policies, including all applicable DHS automated systems security and access policies. Strict controls have been imposed to minimize the risk of compromising the information that is being stored. Access to the computer system containing the records in this system is limited to those individuals who have a need to know the information for the performance of their official duties and who have appropriate clearances or permissions.

RETENTION AND DISPOSAL:

OPS is working with the DHS Records Officer to develop a NARA approved retention schedule for 5 years.

SYSTEM MANAGER AND ADDRESS:

Director, Office of Operations Coordination and Planning, National Operations Center, Department of Homeland Security, Washington, DC 20528.

NOTIFICATION PROCEDURE:

Individuals seeking notification of and access to any record contained in this system of records, or seeking to contest its content, may submit a request in writing to OPS FOIA Officer, whose contact information can be found at http://www.dhs.gov/foia under “contacts.”

When seeking records about yourself from this system of records or any other Departmental system of records your request must conform with the Privacy Act regulations set forth in 6 CFR Part 5. You must first verify your identity, meaning that you must provide your full name, current address and date and place of birth. You must sign your request, and your signature must either be notarized or submitted under 28 U.S.C. 1746, a law that permits statements to be made under penalty of perjury as a substitute for notarization. While no specific form is required, you may obtain forms for this purpose from the Chief Privacy Officer and Chief Freedom of Information Act Officer, http://www.dhs.gov or 1-866-431-0486. In addition you should provide the following:

• An explanation of why you believe the Department would have information on you;

• Identify which component(s) of the Department you believe may have the information about you;

• Specify when you believe the records would have been created;

• Provide any other information that will help the FOIA staff determine which DHS component agency may have responsive records; and

• If your request is seeking records pertaining to another living individual, you must include a statement from that individual certifying his/her agreement for you to access his/her records.

Without this bulleted information the component(s) may not be able to conduct an effective search, and your request may be denied due to lack of specificity or lack of compliance with applicable regulations.

RECORD ACCESS PROCEDURES:

See “Notification procedure” above.

CONTESTING RECORD PROCEDURES:

See “Notification procedure” above.

RECORD SOURCE CATEGORIES:

Information contained in this system is obtained from subject individuals, other federal, state, local and tribal agencies and organizations, domestic and foreign media, including periodicals, newspapers, and broadcast transcripts, public and classified data systems, reporting individuals, intelligence source documents, investigative reports, and correspondence.

EXEMPTIONS CLAIMED FOR THE SYSTEM:

None.

Dated: January 7, 2011.
Mary Ellen Callahan,
Chief Privacy Officer, Department of Homeland Security.

[FR Doc. 2011-2198 Filed 1-31-11; 8:45 am]

BILLING CODE 9110-9A-P